DEPARTMENT OF COMMERCE

National Oceanic and Atmospheric Administration

50 CFR Parts 600 and 660

[Docket No. 991223347-9347-01; I.D. 120299C]

Magnuson-Stevens Act Provisions; Foreign Fishing; Fisheries off West Coast States and in the Western Pacific; Pacific Coast Groundfish Fishery; Annual Specifications and Management Measures; Corrections

AGENCY: National Marine Fisheries Service (NMFS), National Oceanic and Atmospheric Administration (NOAA), Commerce.

ACTION: Corrections to the 2000 specifications for the Pacific Coast groundfish fishery.

SUMMARY: This document contains corrections to the 2000 groundfish fishery specifications and management measures for the Pacific Coast groundfish fishery, which were published on January 4, 2000.

DATES: Effective January 26, 2000.

FOR FURTHER INFORMATION CONTACT: Kate King or Yvonne deReynier, NMFS, 206-526-6140.

SUPPLEMENTARY INFORMATION:

Background

The 2000 fishery specifications and management measures for groundfish taken in the U.S. exclusive economic zone and state waters off the coasts of Washington, Oregon, and California, as authorized by the Pacific Coast Groundfish Fishery Management Plan, were published in the Federal Register on January 4, 1999 (65 FR 221). The specifications contained a number of errors that need to be corrected.

Corrections

In rule FR Doc. 99-33966 beginning on page 221, in the issue of Tuesday, January 4, 2000 (65 FR 221), make the following corrections:

1. On page 239, in the second column, in paragraph (11), delete the paragraph and replace it with “(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, and the open access limit is smaller than the limited entry limit, then the open access limit cannot be exceeded and counts toward the limited entry limit. If a vessel has a limited entry permit and uses open access gear, and the open access limit is larger than the limited entry limit, the smaller limited entry limit applies, even if taken entirely with open access gear”.

2. On page 241, in the first column in paragraph A(16)(c), the first sentence should read “Special provisions will be made for “B” platoon vessels later in the year so that the amount of fish made available in 2000 to both “A” and ”B” vessels is the same”

3. Table 2 starting on page 241 is corrected to read as follows:

BILLING CODE 3510-22-F

BILLING CODE 3510-22-C

4. On page 241, in the third column, in paragraph A(20)(b), the first sentence should read “Shelf rockfish consists of canary rockfish, shortbelly rockfish, widow rockfish (Sebastes entomelas,) yellowtail rockfish, bocaccio, chilipepper, cowcod, and the minor shelf rockfish species listed in Table 2”.

5. On page 247, in the second column, in paragraph D(1)(a)(i), remove “Cape Mendocino” and replace it with “40°10′ N. lat.″.

6. On page 247, in the third column, in paragraph (D)((1)(b), delete “Cape Mendocino” and replace it with “40°10′ N. lat.″.

7. On page 247, in the third column, in paragraph (D)(2), “34"” is corrected to read “34 inches”.

8. On page 248, in the third column, in paragraph B. (3), “limited” is corrected to read “limit”.

9. On page 248, in the third column, in paragraph (B)(4) the paragraph should read “Other rockfish are subject to the same trip limits as the limited entry fishery as published in this document. The limits will not change unless the tribal limits are separately changed.”

Dated: January 20, 2000.
Andrew A. Rosenberg,
Deputy Assistant Administrator for Fisheries, National Marine Fisheries Service.

[FR Doc. 00-1841 Filed 1-25-00; 8:45 am]

BILLING CODE 3510-22-F